ENVIRONMENTAL PROTECTION AGENCY

[FRL-7243-6]

Notice of Open Meeting, Environmental Financial Advisory Board, August 19-20, 2002

The Environmental Protection Agency's (EPA) Environmental Financial Advisory Board (EFAB) will hold an open meeting of the full Board in San Francisco, California on August 19-20, 2002. The meeting will be held at the Bankers Club, Bank of America Building, in the Pacific Room. The Monday, August 19 session will run from 9 a.m. to 5 p.m. and the August 20 session will begin at 8:30 a.m. and end at 11:30 am.

EFAB is chartered with providing analysis and advice to the EPA Administrator on environmental finance. The purpose of this meeting is to discuss progress with work products under EFAB's current strategic action agenda and to develop an action agenda to direct the Board's ongoing and new activities. Environmental financing topics expected to be discussed include: cost-effective environmental management; international and energy initiatives; superfund and brownfields initiatives; and public finance issues.

The meeting is open to the public, but seating is limited. For further information, please contact Vanessa Bowie, EFAB Coordinator, U.S. EPA on (202) 564-5186.

Dated: June 26, 2002.
Maryann Froehlich,
Deputy Comptroller.

[FR Doc. 02-17237 Filed 7-9-02; 8:45 am]

BILLING CODE 6560-50-P